DEPARTMENT OF DEFENSE

Department of the Army; Corps of Engineers

Intent To Grant an Exclusive License to Senera Corporation, Waltham, MA

AGENCY: Department of the Army, U.S. Corps of Engineers, DoD.

ACTION: Notice of intent.

SUMMARY: In accordance with 37 CFR 404.7(a)(1)(i), announcement is made of prospective exclusive licenses for use in bridge and dam scour monitoring of the following U.S. patents: 5,784,338; 5,790,471; 6,084,393; 6,100,700; 6,121,894; 6,281,688; 6,526,189; 6,541,985 which are more fully described in SUPPLEMENTARY INFORMATION.

DATES: Written objections must be filed not later than May 20, 2004.

ADDRESSES: United States Army Engineer Research and Development Center, Cold Regions Research and Engineering Laboratory, 7701 Telegraph Road, Kingman Building, Alexandria, VA 22315-3860.

FOR FURTHER INFORMATION CONTACT: Ms. Sharon Borland, ATTN: CEERD-ZA-TT; (703) 428-9112, FAX (703) 428-6275; email: Sharon.L.Borland@usace.army.mil.

SUPPLEMENTRY INFORMATION: Patent No. 5,784,338 entitled “Time Domain Reflectometry System for Real-time Bridge Scour Detection and Monitoring,” invented by Dr. Norbert E. Yankielun and Leonard J. Zabilansky, issued July 21, 1998; Patent No. 5,790,471 entitled “Water/Sediment Interface Monitoring System using Frequency-Modulated Continuous Wave,” invented by Dr. Norbert E. Yankielun and Leonard J. Zabilansky, issued August 4, 1998; Patent No. 6,084,393 entitled “Scour Probe Assembly,” invented by Dr. Norbert E. Yankielun, issued July 4, 2000; Patent No. 6,100,700 entitled “Bridge Scour Detection and Monitoring Apparatus using Time Domain Reflectometry (TDR),” invented by Dr. Norbert E. Yankielun and Leonard J. Zabilansky, issued August 8, 2000; Patent No. 6,121,894 entitled “Low Cost Time Domain Reflectometry System for Bridge Scour Detection and Monitoring”, invented by Dr. Norbert E. Yankielun and Leonard Zabilansky, issued September 19, 2000; Patent No. 6,281,688 entitled “Transmission Line Reflectometer using Frequency-Modulated Continuous Wave,” invented by Dr. Norbert E. Yankielun, issued August 28, 2001; Patent No. 6,526,189 entitled “Scour Sensor Assembly,” invented by Dr. Norbert E. Yankielun, issued February 25, 2003; Patent No. 6,541,985 entitled “System and Method for Remotely Monitoring an Interface Between Dissimilar Materials,” invented by Dr. Norbert E. Yankielun, issued April 1, 2003. The United States of America as represented by the Secretary of the Army intends to grant an exclusive license for the field of use of bridge and dam scour monitoring, in the manufacture, use, and sale of the patented technology in the territories and possessions of the U.S.A., to Senera Corporation, 41 Seyon St. Building 1, Suite 500, Waltham, MA 02453. Pursuant to 37 CFR 404.7(b)(1)(I), any interested party may file a written objection to this prospective partially exclusive license agreement.

Richard L. Frenette,
Counsel.

[FR Doc. 04-10183 Filed 5-4-04; 8:45 am]

BILLING CODE 3710-92-P